DEPARTMENT OF LABOR

Office of the Secretary

Submission for OMB Review; Comment Request

November 21, 2002.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 219-8904 or e-mail Howze-Marlane@dol.gov).

Comments should be sent to Office of Information and Regulatory Affairs, Attn: OMB Desk Officer for PWBA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Pension and Welfare Benefits Administration (PWBA).

Title: Disclosures for Participant Directed Individual Account Plans under the Employee Retirement Income Security Act (ERISA) Section 404(c).

OMB Number: 1210-0090.

Affected Public: Business or other for-profit, individuals or households, and Not-for-profit institutions.

Frequency: On Occasion.

Number of Respondents: 324,000.

Number of Annual Responses: 39,100,000.

Estimated Time Per Response: 1 hour.

Total Burden Hours: 36,950.

Total Annualized Capital/Startup Costs: $0.

Total Annual Costs (operating/maintaining systems or purchasing services): $17,555.00.

Description: Section 404(c) of ERISA provides that where an individual account pension plan permits individual investment direction, the individual will not be deemed a fiduciary and no person otherwise a fiduciary shall be liable for any loss or breach that results from the individual's exercise of control. The information collection requirements are mandatory only if a plan wishes to utilize the relief available under ERISA Section 40(c). There is no reporting to the Federal government under this regulation.

Ira L. Mills,
Departmental Clearance Officer.

[FR Doc. 02-30423 Filed 11-29-02; 8:45 am]

BILLING CODE 4510-29-M